DEPARTMENT OF LABOR

Employment and Training Administration

Implementation of the Senior Community Service Employment Program (SCSEP) Performance Measures Under Public Law 109-365

AGENCY: Employment and Training Administration, Labor.

ACTION: Notice of request for public comments.

SUMMARY: On October 17, 2006, President Bush signed into law the Older Americans Act Amendments of 2006 (OAA-2006). Title V of OAA-2006 authorizes the Senior Community Service Employment Program (SCSEP). The law calls for the Department of Labor (DOL) to establish and implement new SCSEP measures of performance by Program Year (PY) 2007 (which begins July 1, 2007) after consultation with stakeholders. DOL is publishing this notice to solicit public input on implementation of the performance indicators.

Key Dates: To ensure consideration of comments in light of the compressed statutory timeline, please submit comments on or before February 22, 2007. DOL will consider comments submitted after that date to the extent possible.

ADDRESSES: Submit your comments by e-mail to older.americans@dol.gov. Comments can also be mailed or hand carried to the Employment and Training Administration, Office of Workforce Investment, Division of Adult Services, Room S-4209, 200 Constitution Avenue, NW., Washington, DC 20210. A summary of all comments received will be made available to the public on the SCSEP Web site at http://www.doleta.gov/seniors.

FOR FURTHER INFORMATION CONTACT: Ms. Judith Gilbert via e-mail at gilbert.judith@dol.gov or via telephone at (202) 693-3758. This is not a toll free number.

SUPPLEMENTARY INFORMATION:

A. Background

SCSEP provides useful part-time training opportunities in community service activities for persons with low incomes who are 55 years of age or older and assists older workers in transitioning to unsubsidized employment.

In 2000, statutory amendments established program-specific measures to monitor the performance of each grantee. Public Law 106-501, section 513(b).

These measures were:

1. The number of persons served, with particular consideration given to individuals with greatest economic need, greatest social need, or poor employment history or prospects, and individuals who are over the age of 60;

2. Community services provided;

3. Placement into and retention in unsubsidized public or private employment;

4. Satisfaction of the enrollees, employers, and their host agencies with their experiences and the services provided; and

5. Any additional indicators of performance that the Secretary determines to be appropriate.

In addition, grantees were asked to report on three common performance measures that generally apply to federally-funded employment and job training programs. Currently, the common measures are:

1. Entered employment;

2. Retention in employment; and

3. Average earnings.

The OAA-2006 Amendments, found at Public Law 109-365, call for several specific changes to the existing performance accountability system, and require that DOL establish and implement the new SCSEP performance measures after consultation with stakeholders by PY 2007. Specifically, section 513(a)(1) states that “The Secretary shall establish and implement, after consultation with grantees, subgrantees and host agencies under this title, States, older individuals, area agencies on aging and other organizations serving older individuals, core measures of performance and additional indicators of performance for each grantee for projects and services carried out under this title.” Section 513(d)(4) calls for the Department to establish and implement the core measures and additional indicators of performance identified in the 2006 Amendments “not later than July 1, 2007.” Further, section 513(a)(2)(C) requires that “The Secretary and each grantee shall reach agreement on the expected levels of performance for each program year for each of the core indicators of performance * * * Funds may not be awarded under the grant until such agreement is reached.” Finally, section 513(b)(3) states that “(t)he Secretary, after consultation with national and state grantees, representatives of business and labor organizations, and providers of services, shall, by regulation, issue definitions of the indicators of performance” described in OAA-2006.

B. Changes to Performance Measures

OAA-2006 identifies five core indicators of performance and two additional indicators of performance in amended section 513(b), and authorizes the Secretary to add any other indicators of performance determined to be appropriate to evaluate services and performance.

The five core indicators in OAA-2006, which incorporate the three common performance measures that generally apply to federally-funded employment and job training programs, are as follows:

1. Hours (in the aggregate) of community service employment;

2. Entry into unsubsidized employment (common measure);

3. Retention in unsubsidized employment for six months (common measure);

4. Earnings (common measure); and,

5. The number of eligible individuals served, including those individuals included in the categories specified in the law for providing a priority for services in section 518(b)(2) and in the categories specified as eligible for extension of the individual time limits in section 518(a)(3)(B)(ii).

The law requires that DOL and grantees reach agreement on expected levels of performance for each of the core indicators of performance for each program year. Failure to meet the expected levels of performance triggers requirements for the development of performance improvement plans by grantees and the provision of technical assistance by DOL. Three consecutive years of failure by a State grantee triggers a requirement that the State conduct a competition for the administration of the program within the State, while four consecutive years of failure by a national grantee will render the grantee ineligible to participate in the subsequent grant competition for the program.

The additional indicators of performance specified in OAA-2006 are as follows:

1. Retention in unsubsidized employment for one year;

2. Satisfaction of the participants, employers and their host agencies with their experiences and the services provided; and

3. “Any other additional indicators of performance” determined to be appropriate to evaluate services and performance. Section 513(b)(2)(C).

With respect to additional indicators of performance, the law does not require that the DOL and grantees reach agreement on expected levels of performance.

Definitions of both the core and additional indicators are to be issued by regulation after consultation with grantees and other interested parties. DOL will annually evaluate and publish and make available for public review information on the actual performance of each grantee with respect to the levels achieved for all indicators of performance.

C. Consultation

To comply with the statutory timeline, DOL envisions publishing further guidance after consultation with the public, in order to implement the performance measures in time for the PY 2007 grants.

In order to develop policies and procedures for a performance measurement system that will increase performance accountability and improve services to participants, DOL seeks public input and observations on how both the core measures and additional performance measures should be defined and implemented. We invite commenters to share their observations, experiences and insights on any aspect of the SCSEP performance management system, but we are particularly interested in the following areas:

1. Core indicators:

Based on your experience with current indicators of performance, what factors should DOL consider in establishing the core indicators? What aspects of the current measures should be maintained? Which should be changed?

Comments should focus on the first and fifth core indicators because the definitions for core measures two through four are already set and generally apply to federally funded job training and employment programs. DOL in particular seeks comments on interpretation of the following terms listed at subsection (a)(3)(B)(ii) or (b)(2) of section 518:

(1) A severe disability, (2) frail or age 75 or older, (3) lives in an area with persistent unemployment and are individuals with severely limited employment prospects, (4) has limited English proficiency or low literacy skills, (5) has a disability, (6) resides in a rural area, (7) is a veteran, (8) has low employment prospects, or 9) is homeless or at risk for homelessness.

In addition, the current policy regarding the fifth indicator is to divide the population groups into two separate measures with one measure relating to all persons served and the second measure relating to services to what is currently referred to as individuals “most in need.” We are considering whether to continue with this policy of dividing the indicator into two separate measures but with the change that under OAA-2006 individuals in the categories specified for priority of service and for extension of the individual time limit (rather than those currently referred to as individuals “most in need”) would be compared to the population of all persons served. We are interested in comments on whether this approach would promote more effective targeting of services, or would a single measure combining both elements for all persons served be as effective and simplify the process?

2. Retention in unsubsidized employment for one year:

We are interested in comments to help us establish the point at which the one year measure is taken. For example, should this be measured at the 365th day; at the 5th quarter after the quarter of exit from the SCSEP program; or during the 4th quarter after exit, similar to the Workforce Investment Act Title I Subtitle B 12 month retention measure; or at some other point? If a different point is recommended, please explain the rationale.

3. Customer satisfaction:

We are interested in suggestions for ways to measure the satisfaction of participants, employers and host agencies, particularly whether the current methodology shall be carried forward or changed?

4. Other additional indicators of performance:

We are interested in suggestions for other indicators to measure successful SCSEP performance.

In particular, should the current performance measure of SCSEP Placement Rate be used, changed or not used as an additional indicator of performance? (The SCSEP Placement Rate compares the number of participants placed into unsubsidized employment, with at least 30 days of employment within the first 90 days of exit from the SCSEP program, to the number of funded positions; the entered employment common measure does not include the 30 day employment requirement.)

5. Performance outcomes:

How should DOL determine whether a grantee fails, meets or exceeds expected levels of performance?

6. Other comments:

DOL welcomes comments and suggestions on any other aspects of implementing the new performance measures.

Signed at Washington, DC, this 2nd day of February, 2007.
Emily Stover DeRocco,
Assistant Secretary.

[FR Doc. E7-2084 Filed 2-7-07; 8:45 am]

BILLING CODE 4510-FN-P